DEPARTMENT OF TRANSPORTATION

Federal Transit Administration

[FTA Docket No. 2016-0022]

Notice of Request for the Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to renew the following information collection:

49 U.S.C. Section 5339 Bus and Bus Facilities Program OMB Control No.: 2132-0576

49 U.S.C. Section 5339—Bus and Bus Facilities Formula Program, was originally authorized by the Moving Ahead for Progress in the 21st Century (MAP-21). The program was reauthorized under the Fixing America's Surface Transportation (FAST) Act Section 3017. This program authorizes the Secretary of Transportation to provide funding to replace, rehabilitate and purchase buses and related equipment and to construct bus-related facilities including technological changes or innovations to modify low or no emission vehicles or facilities.

Funding is provided through formula allocations and competitive grants. Two competitive grant programs were added: 5339(b) for bus and bus facility projects and 5339(c) for bus and bus facility projects that support low and zero-emission vehicles. Eligible recipients include 5307 Direct Recipients, States and Federally Recognized Tribes. Eligible sub-recipients include those recipients that receive a grant under the formula or discretionary programs and may allocate amounts from the grant to sub-recipients that are public agencies or private nonprofit organizations engaged in public transportation.

Recipients apply for grants electronically and FTA collects milestone and financial status reports from designated recipients and states on a quarterly basis. The information submitted ensures FTA's compliance with applicable federal laws.

DATES: Comments must be submitted before July 8, 2016.

ADDRESSES: To ensure that your comments are not entered more than once into the docket, submit comments identified by the docket number by only one of the following methods:

1. Web site: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-493-2251.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9:00 a.m. and 5:00 p.m., Monday through Friday, except federal holidays.

FOR FURTHER INFORMATION CONTACT: Samuel Snead, Office of Program Management (202) 366-1089, or email: samuel.snead@dot.gov (Bus Program) or Tara Clark, Office of Program Management (202)366-2623 or email: tara.clark@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Respondents: 5307 Direct Recipients, States and Federally Recognized Indian Tribes.

Estimated Annual Burden on Respondents: 58 hours per submission.

Estimated Total Annual Burden: 9,020 hours.

Frequency: Annual.

William Hyre,
Deputy Associate Administrator for Administration.

[FR Doc. 2016-10838 Filed 5-6-16; 8:45 am]

BILLING CODE P